DEPARTMENT OF HEALTH AND HUMAN SERVICES

National Institutes of Health

National Heart, Lung, and Blood Institute; Amended Notice of Meeting

Notice is hereby given of a change in the meeting of the National Heart, Lung, and Blood Advisory Council, October 30, 2012, 08:00 a.m. to October 30, 2012, 05:00 p.m., National Institutes of Health, Building 31, 31 Center Drive, Bethesda, MD, 20892 which was published in the Federal Register on September 26, 2012, 2012-23628.

The meeting was postponed from October 30, 2012 to November 28, 2012 due to the October 30, 2012 Government closure. The open session is from 12:30-1:30 p.m., followed immediately by the closed session to review and evaluate grant applications.

Dated: November 1, 2012.
Michelle Trout,
Program Analyst, Office of Federal Advisory Committee Policy.

[FR Doc. 2012-27094 Filed 11-6-12; 8:45 am]

BILLING CODE 4140-01-P